DEPARTMENT OF VETERANS AFFAIRS

Notice of Meeting: Cooperative Studies Scientific Evaluation Committee

The Department of Veterans Affairs (VA) gives notice under the Federal Advisory Committee Act, 5 U.S.C. Ch. 10, that the Cooperative Studies Scientific Evaluation Committee (CSSEC) will hold its virtual meeting on May 23, 2024, via MS Teams from 10 a.m.-4 p.m. EST.

The Committee provides expert advice on VA cooperative studies, multi-site clinical research activities and policies related to conducting and managing these efforts. The session will be open to the public for the first 2 hours of the meeting (approximately) for the discussion of administrative matters and the general status of the program. The remaining portion of the meeting will be closed to the public for the Committee's review, discussion and evaluation of future research and development applications.

During the closed portion of the meeting, the Committee's discussions and recommendations will address the qualifications of the personnel conducting the studies, and staff and consultant critiques of research proposals and similar documents. Premature disclosure of this research information to the public could significantly obstruct implementation of approved research activities. As provided by Public Law 92-463 subsection 10(d), and amended by Public Law 94-409, closing the Committee meeting is in accordance with 5 U.S.C. 552b(c)(6) and (9)(B).

The Committee will accept oral comments from the public during a 30-minute public comment period in the open portion of the meeting. Individual stakeholders will be afforded up to 3 minutes to express their comments. Members of the public who wish to attend the open teleconference should call 872-701-0185, conference ID 481 139 269#. Those who plan to attend or would like additional information should contact David Burnaska, Program Manager, Cooperative Studies Program (14RD), Department of Veterans Affairs, 810 Vermont Avenue NW, Washington, DC 20420, at David.Burnaska@va.gov. Those wishing to submit written comments may send them to Mr. Burnaska at the same address and email.

Dated: April 17, 2024.
LaTonya L. Small,
Federal Advisory Committee Management Officer.

[FR Doc. 2024-08566 Filed 4-22-24; 8:45 am]

BILLING CODE P